SMALL BUSINESS ADMINISTRATION

Privacy Act of 1974 System of Records Notice

AGENCY: U.S. Small Business Administration.

ACTION: Notice of a revised system of record.

SUMMARY: The U.S. Small Business Administration (SBA or Agency) is revising the Agency's Privacy Act System of Records for SBA's federal advisory councils. This document provides notice to the public on SBA's maintenance, use and safeguard of personal information submitted to the Agency by individuals nominated to serve as members on SBA's federal advisory councils.

DATES: This system is active July 11, 2005, unless comments are received that result in a need for modification.

ADDRESSES: Send comments to Matthew K. Becker, White House Liaison & Committee Management Officer, Office of the Administrator, U.S. Small Business Administration, 409 Third Street, SW., 7th Floor, Washington, DC 20416; Phone: (202) 205-6882; Fax: (202) 481-0906; E-mail: matthew.becker@sba.gov.

FOR FURTHER INFORMATION CONTACT: Donna Wood, Committee Management Specialist, (202) 619-1608; donna.wood@sba.gov.

System Name:

ADVISORY COUNCIL FILES—SBA 3.

SYSTEM LOCATION:

SBA Headquarters, 409 Third Street SW., 7th floor, Washington, DC 20416.

CATEGORIES OF INDIVIDUALS COVERED BY THE SYSTEM:

Individuals currently serving as members on SBA's federal advisory councils and individuals who formerly served.

CATEGORIES OF RECORDS IN THE SYSTEM:

The system contains completed SBA Forms 898 submitted by individuals nominated to serve as members on SBA's federal advisory councils. The form requests current personal and business contact information, birthplace and date of birth, and information on the current status or history of application for SBA assistance or actual receipt of it. The system may also contain nominees' professional resumes and other correspondence.

AUTHORITY FOR MAINTENANCE OF THE SYSTEM:

15 U.S.C. 637(b)(13), 648(i)(1), 657(c), Section 203, 7510-10; Pub. L. 106-50; and 44 U.S.C. 3101.

ROUTINE USES OF RECORDS MAINTAINED IN THE SYSTEM, INCLUDING CATEGORIES OF USERS AND THE PURPOSES OF SUCH USES, THESE RECORDS MAY BE USED BY, DISCLOSED OR REFERRED TO:

a. Appointed liaisons in SBA program offices, including but not limited to:

(1) Office of Government Contracting;

(2) Investment Division;

(3) Office of Financial Assistance;

(4) Office of Procurement and Grants Management;

(5) Office of Inspector General;

(6) Office of Strategic Alliances; and

(7) Office of General Counsel.

The purpose of the disclosure is to facilitate the performance of the appointed liaisons' duty to determine whether the program office has any information pertaining to a past or current relationship between the nominee and SBA and to provide such information to the SBA's Committee Management Officer who vets nominees for conflict of interest or the appearance of conflict of interest in accordance with SOP 90 54 5, Chapter 7.

b. Member of Congress or his/her staff when the Member is inquiring on the individual's behalf, provided that the Agency determines the disclosure of the records is a use of the information contained in the records that is compatible with the purpose for which the information was collected. Under these circumstances, the Member's access rights are no greater than the individual's rights.

c. Agency volunteers, interns, grantees, experts and contractors who have been engaged by the Agency to assist in the performance of a service related to this system of records and who need access to the records in order to perform this activity. Recipients of these records shall be required to comply with the requirements of the Privacy Act of 1974, as amended, in accordance with their employment contracts.

d. The Department of Justice (DOJ) when any of the following is a party to litigation or has an interest in such litigation, and the use of such records by the DOJ is deemed by the agency to be relevant and necessary to the litigation, provided, however, that in each case, the agency determines the disclosure of the records to the DOJ is a use of the information contained in the records that is compatible with the purpose for which the records were collected:

(1) The agency, or any component thereof;

(2) Any employee of the agency in his/her official capacity;

(3) Any employee of the agency in his/her individual capacity where the DOJ has agreed to represent the employee; or

(4) The United States Government, where the agency determines that litigation is likely to affect the agency or any of its components.

e. A court, or adjudicative body, or a dispute resolution body before which any of the following is a party to litigation or has an interest in litigation, provided however, that the agency determines that the use of such records is relevant and necessary to the litigation, and that, in each case, the agency determines that disclosure of the records to a court or other adjudicative body is a use of the information contained in the records that is compatible with the purpose for which the records were collected:

(1) The agency, or any component thereof;

(2) Any employee of the agency in his or her official capacity;

(3) Any employee of the agency in his or her individual capacity where the DOJ has agreed to represent the employee; or

(4) The United States Government, where the agency determines that litigation is like to affect the agency or any of its components.

Policies and Practices for Storing, Retrieving, Accessing, Retaining and Disposing of Records:

Storage:

Paper files only.

Retrieval:

Records are organized according to advisory council and retrievable by the name of the current and former member.

Safeguards:

Access to SBA Headquarters is controlled and monitored by security personnel. Access to SBA program offices is limited to SBA employees with key cards. Records are maintained in locked files located in locked rooms. Access to records is limited to persons whose official duties require access to the information contained in the records.

Retention and Disposal:

Permanent records are maintained for 2 years and then transferred to the Federal Records Center in accordance with SOP 00 41 2, Appendix 24, 95:01.

Systems Manager(s) and Address:

Committee Management Officer, Office of the Administrator, U.S. Small Business Administration, 409 Third Street SW., 7th floor, Washington, DC 20416.

Notification Procedure:

If you want to determine whether your personal information is maintained in this system of records, send a request in writing to inspect relevant records to the Committee Management Officer, Office of the Administrator, U.S. Small Business Administration, 409 Third Street SW., 7th floor, Washington, DC 20416.

Access Procedures:

The CMO will make relevant records available for inspection upon written request, with sufficient notice as determined by the CMO, during normal business hours.

Contesting Procedures:

Contact the CMO using notification procedures listed above and state reason(s) for contesting his or her findings and the proposed amendment sought.

Source Categories:

Record subject, Congressional offices, Agency employees, Media, Advisory Council members, Federal Register.

Dated: June 2, 2005.
Delorice P. Ford,
Senior Privacy Official.

Altered System of Records; Narrative Statement; U.S. Small Business Administration; Privacy Act System of Records 3

1. Purpose. The purpose of revising Privacy Act System of Records 3 (System) is to clarify the categories of records in the System and categories of individuals covered by the System, update policies and practices for storing, retrieving, accessing, retaining and disposing of records, and add a routine use to the System.

2. Authority. SBA's authority for collecting, maintaining, and using the information contained in this System is found in the following statutory provisions: 15 U.S.C. 637(b)(13), 648(i)(1), 657(c), 7105-10, Sec. 203 Pub. L. 106-50, and 44 U.S.C. 3101.

3. Potential Effect on the Privacy of Individuals. Categories of individuals covered by this System are individuals currently serving as members on SBA's federal advisory councils and individuals who formerly served. The additional routine use announced in this notice, which permits disclosure of information contained in this System to appointed liaisons in SBA program offices for the purpose of the vetting the individual for conflict of interest with SBA, will have a minimal effect on those categories of individuals. The SBA employees appointed to serve as liaisons are required to protect any personal information in accordance with the Privacy Act of 1974, as amended.

4. Minimizing the Risk of Unauthorized Access to System. SBA has taken steps to minimize the risk of unauthorized access to the System by restricting access to SBA Headquarters and SBA program offices and by securing the records with lock and key.

5. Compatibility Requirement. The proposed routine use of records in this System satisfies the Privacy Act's compatibility requirement, 5 U.S.C. 552a(a)(7), as it is a “collection, or grouping of information about an individual that is maintained by an agency” and “contains his name, or social security number, business address, personal address, or other identifying particular assigned to the individual.”

6. OMB-Approved, Information Collections Contained in the System. SBA Form 898, U.S. Small Business Administration Advisory Committee Membership—Nominee Information, OMB control number is 3245-0124.

[FR Doc. 05-11458 Filed 6-9-05; 8:45 am]

BILLING CODE 8025-01-P